DEPARTMENT OF HOMELAND SECURITY

Coast Guard

33 CFR Part 117

[CGD07-03-118]

RIN 1625-AA09

Drawbridge Operation Regulations; Miami River, Miami-Dade County, FL

AGENCY: Coast Guard, DHS.

ACTION: Notice of proposed rulemaking.

SUMMARY: The Coast Guard proposes to modify the operating regulations of all drawbridges on the Miami River from the mouth of the river to and including the NW. 27th Avenue Bridge, mile 3.7, Miami, Florida. The proposed rule would add a one-hour closure period during the noon hour and place the Brickell Avenue Bridge on an hour and half-hour schedule. Draws would open at any time for tugs, tugs with tows, and emergency vessels. This action is intended to provide scheduled openings for Brickell Avenue vehicle traffic but not interfere with commercial tugs and tugs with tows that operate during certain tidal conditions along the Miami River.

DATES: Comments and related material must reach the Coast Guard on or before October 10, 2003.

ADDRESSES: You may mail comments and related material to Commander (obr), Seventh Coast Guard District, 909 SE. 1st Avenue, Room 432, Miami, FL 33131. Commander (obr) maintains the public docket for this rulemaking. Comments and material received from the public, as well as documents indicated in this preamble as being available in the docket, will become part of docket (CGD07-03-118) and are available for inspection or copying at Commander (obr), Seventh Coast Guard District, 909 SE. 1st Avenue, Miami, Florida 33131 between 8 a.m. and 4:30 p.m., Monday through Friday, except Federal holidays.

FOR FURTHER INFORMATION CONTACT: Mr. Barry Dragon, Bridge Branch, 909 SE. 1st Avenue, Miami, Florida 33131, telephone number 305-415-6743.

SUPPLEMENTARY INFORMATION:

Request for Comments

We encourage you to participate in this rulemaking by submitting comments and related material. If you do so, please include your name and address, identify the docket number for this rulemaking (CGD07-03-118), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Bridge Branch, at the address under ADDRESSES, explaining why one would be beneficial. If we determine that one would aid this rulemaking, we will hold one at a time and place announced by a later notice in the Federal Register.

Background and Purpose

Ten bridges along the Miami River fall under existing regulation 33 CFR 117.305. These bridges carry commuter traffic into and out of the downtown Miami area and its neighboring business districts. The current regulation requires the draw of each bridge from the mouth of the Miami River to and including the NW. 27th Avenue Bridge, mile 3.7 at Miami, to open on signal; except that, from 7:30 a.m. to 9 a.m. and 4:30 p.m. to 6 p.m., Monday through Friday except Federal holidays, the draws need not open for the passage of vessels. Public vessels of the United States and vessels in emergency situations involving danger to life or property are passed at any time.

First, the proposed rule would add an additional one-hour closure period for the noon rush hour, Monday through Friday except Federal holidays, to all ten of these bridges in order to provide relief for vehicular traffic. This would be in addition to the existing morning and late afternoon closure periods. Second, the first bridge at the mouth of the river, the Brickell Avenue Bridge, which has a vertical clearance of 26 feet at mean high water and a horizontal clearance of 90 feet, would open only on the hour and half-hour. According to bridge tender logs, the Brickell Avenue Bridge currently opens fewer than two times per hour. The Brickell Bridge carries the majority of the vehicular traffic utilizing the ten bridges along the Miami River, and the proposed rule would provide commuters opportunity to time their arrivals and departures. Draws would open at any time for tugs, tugs with tows, and emergency vessels. This third modification would alleviate the burden on commercial tugs and tugs with tows that only navigate the river during certain tidal conditions. All the closure periods and the opening schedule in the proposed rule would not prohibit these vessels from passage when optimal tidal conditions conflict with the rule. These changes would be in effect from 7 a.m. until 7 p.m., Monday through Friday except Federal holidays.

Discussion of Proposed Rule

The Coast Guard proposes the following changes to the regulations governing the ten bridges on the Miami River from the mouth to and including the 27th Avenue Bridge, mile 3.7 at Miami: the addition of a closure period from 12:05 p.m. to 12:59 p.m., Monday through Friday except Federal holidays; the addition of an hour and half-hour opening schedule for the Brickell Avenue Bridge from 7 a.m. to 7 p.m. Monday through Friday except Federal holidays; and the exception for tugs and tugs with tows from these regulations. These changes would ease vehicular traffic congestion in downtown Miami by providing an additional closure period for all ten bridges and timed openings on the major thoroughfare at the Brickell Avenue Bridge, while still meeting the reasonable needs of navigation on the Miami River, in part by allowing tugs and tugs with tows to be excepted from the new schedule.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary. The proposed rule makes only minor changes to the existing bridge operation schedules by adding a closure period at noon, but exempts commercial tugs and tugs with tows. It also proposes to schedule hour and half-hour openings for the Brickell Avenue Bridge that currently opens fewer than twice an hour according to bridge tender logs. Two openings will continue to be available with the new schedule change.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities, because the proposed rule only makes a slight change to the existing bridge operation schedules. The proposed rule may affect the following entities, some of which might be small entities: the owners or operators of vessels and vehicles intending to transit under and over the bridges on the Miami River, including the Brickell Avenue Bridge during the hours of 7 a.m. to 7 p.m., Monday through Friday except Federal holidays, as well as some waterfront facility owners on the Miami River. The Brickell Avenue Bridge currently opens less than twice an hour and, under the proposed rule, will provide a schedule of two openings per hour. Tugs and tugs with tows will benefit from the proposed rule, because they will be exempt from scheduled openings and closure periods.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the person listed under FOR FURTHER INFORMATION CONTACT.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not create an environmental risk to health or risk to safety that may disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order, because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.1D, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (32)(e), of the Instruction, from further environmental documentation. Under figure 2-1, paragraph (32)(e), of the Instruction, an “Environmental Analysis Check List” and a “Categorical Exclusion Determination” are not required for this rule.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; Department of Homeland Security Delegation No. 0170.1; 33 CFR 1.05-1(g); Section 117.255 also issued under authority of Pub. L. 102-587, 106 Stat. 5039.

2. Revise § 117.305 to read as follows:

§ 117.305 Miami River, Florida.

* * * * *

(a) The draws of each bridge from the Miami Avenue Bridge, mile 0.3, to and including N.W. 27th Avenue Bridge, mile 3.7 at Miami, shall open on signal; except that, from 7:35 a.m. to 8:59 a.m., 12:05 p.m. to 12:59 p.m. and 4:35 p.m. to 5:59 p.m., Monday through Friday except Federal holidays, the draws need not open for the passage of vessels. Public vessels of the United States, tugs and tugs with tows, and vessels in an emergency involving danger to life or property shall be passed at any time.

(b) Brickell Avenue Bridge, mile 0.1, at Miami, shall open on signal; except that, from 7 a.m. to 7 p.m., Monday through Friday except Federal holidays, the draw need open only on the hour and half-hour. From 7:35 a.m. to 8:59 a.m., 12:05 p.m. to 12:59 p.m. and 4:35 p.m. to 5:59 p.m., Monday through Friday except Federal holidays, the draw need not open for the passage of vessels. Public vessels of the United States, tugs and tugs with tows, and vessels in an emergency involving danger to life or property shall be passed at any time.

Dated: July 28, 2003.
H. E. Johnson, Jr.,
Rear Admiral, U.S. Coast Guard, Commander, Seventh Coast Guard District.

[FR Doc. 03-20335 Filed 8-8-03; 8:45 am]

BILLING CODE 4910-15-P